DEPARTMENT OF AGRICULTURE

Submission for OMB Review; Comment Request

May 29, 2012.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Farm Service Agency

Title: End-Use Certificate Program

OMB Control Number: 0560-0151

Summary of Collection: Public Law 103-182, Section 321(f) of the North American Free Trade Agreement Implementation Act mandates that the Secretary of Agriculture shall implement, in coordination with the Commissioner of Customs and Border Protections, a program requiring that end-use certificates be included in the documentation covering the entry into the United States of any wheat originating from Canada. The end-use certificate program was designed to ensure that Canadian wheat does not benefit from USDA or CCC-assisted export programs.

Need and Use of the Information: The form FSA-750 “End-Use Certificate for Wheat” is used by importers of Canadian wheat to report entry into the United States. The form must be submitted by the importer within 15 workdays following the date of entry. Millers, exporters, and other users of imported Canadian wheat use the FSA-751, “Wheat Consumption and Resale Report,” to report final disposition of Canadian wheat in the United States. Failure to collect the information on an entry-by-entry basis would make it impossible to ensure that imported grain retains its' identify preserved status and doe not benefit from USDA or CCC-assisted programs.

Description of Respondents: Business or other for-profit.

Number of Respondents: 87.

Frequency of Responses: Reporting: On occasion; Quarterly.

Total Burden Hours: 4,068.

Ruth Brownm,
Departmental Information Collection Clearance Officer.

[FR Doc. 2012-13422 Filed 6-1-12; 8:45 am]

BILLING CODE 3410-05-P